DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for May 1, 2002, from 11 a.m. to 12:30 p.m. Arrange for oral presentations by April 26.

ADDRESSES: Federal Aviation Administration, 800 Independence Avenue, Room 810, Washington, DC 20591.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. Ill), notice is given of an ARAC meeting to be held May 1, in Washington, DC. The purpose of the meeting is to review and approve proposed rulemaking and advisory material addressing design and construction of control surfaces. The documents were prepared by the Flight Controls Harmonization Working Group.

Attendance is open to the public but will be limited to the availability of the meeting room space and telephone lines. The meeting is being held in a Federal building with enhanced security procedures since the September 11, 2001 events. Those persons planning to attend in person should provide their name and company/affiliation to the person listed under the heading FOR FURTHER INFORMATION no later than April 26.

Details for participating by telephone will be available after April 22 on the ARAC calendar at http://www.faa.gov.avr/arm/araccal.htm, or by contacting the person listed under the heading FOR FURTHER INFORMATION CONTACT. Callers outside the Washington metropolitan area will be responsible for paying long-distance charges.

The public must make arrangements by April 26 to present oral statements at the meeting. Written statements may be presented to the committee at any time by providing 25 copies to the person listed under the heading FOR FURTHER INFORMATION CONTACT or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on April 8, 2002.
Tony F. Fazio,
Director, Office of Rulemaking.

[FR Doc. 02-9114 Filed 4-15-02; 8:45 am]

BILLING CODE 4910-13-M